DEPARTMENT OF THE INTERIOR

Fish and Wildlife Service

Endangered and Threatened Wildlife and Plants; Reopening of Comment Period for Draft Recovery Crediting Guidance

AGENCY: Fish and Wildlife Service, Interior.

ACTION: Notice of reopening comment period.

SUMMARY: We, the U.S. Fish and Wildlife Service (Service), announce the reopening of a comment period on our draft recovery crediting guidance for an additional 60 days. We solicit comment from all interested parties on the contents of the draft guidance and the likely effects of its implementation.

DATES: Comments from all interested parties on the draft guidance document must be received on or before February 25, 2008.

ADDRESSES: To obtain a copy of the draft guidance: The draft guidance may be downloaded from our Web site at http://www.fws.gov/endangered/policy/oct.2007.html. To request a copy of the draft guidance, write to U.S. Fish and Wildlife Service, 420 ARLSQ, Washington, DC 20240, Attention: Recovery Crediting; or call 703/358-2171. You may also send an e-mail request to recovery_crediting@fws.gov. Specify whether you wish to receive a hard copy by U.S. mail or an electronic copy by e-mail.

To submit your comments: Send comments by any one of the following methods:

• Mail: U.S. Fish and Wildlife Service, 420 ARLSQ, Washington, DC 20240, Attention: Recovery Crediting.

• Hand Delivery/Courier: Division of Consultation, Habitat Conservation Planning, Recovery, and State Grants, Room 420, 4401 North Fairfax Drive, Arlington, VA 22203-1601.

• E-mail: recovery_crediting@fws.gov. Include “Recovery Crediting comments” in the subject line of the message.

• Fax: 703/358-1735. Include “Recovery Crediting comments” in the subject line.

FOR FURTHER INFORMATION CONTACT: Direct all questions or requests for additional information about the draft guidance to Dr. Richard L. Sayers; Division of Consultation, Habitat Conservation Planning, Recovery, and State Grants; U.S. Fish and Wildlife Service; 420 ARLSQ; Washington, DC 20240 (703/358-2171). Individuals who are hearing-impaired or speech-impaired may call the Federal Relay Service at 1-800-877-8337 for TTY assistance, 24 hours a day, 7 days a week.

SUPPLEMENTARY INFORMATION: We published a notice of availability of draft recovery crediting guidance on November 2, 2007 (72 FR 62258). The original comment period ended on December 3, 2007. In response to requests from respondents, we are reopening comment for an additional 60 days. Initial comments submitted revealed a possible misunderstanding of our notice of availability. That notice included the entire guidance document; no additional information is available. We regret any impression we may have created that it was necessary to obtain an additional document in order to understand the guidance.

We will take into consideration the relevant comments, suggestions, or objections that we receive by the comment due date indicated above in DATES. These comments, suggestions, or objections, and any additional information we receive, may lead us to adopt final guidance that differs from the draft. We prefer to receive comments via e-mail, but you may submit your comments by any method mentioned above in ADDRESSES.

Please submit e-mail comments to recovery_crediting@fws.gov in ASCII file format and avoid the use of special characters or any form of encryption. Please also include “Recovery Crediting comments” in the subject line of the message, preferably with your full name and return address in the body of your message. Please note that the Internet address will be closed when the public comment period ends.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is the Endangered Species Act of 1973, as amended, (16 U.S.C. 1531 et seq.).

Dated: December 14, 2007.
Kenneth Stansell,
Acting Director, Fish and Wildlife Service.

[FR Doc. E7-24971 Filed 12-26-07; 8:45 am]

BILLING CODE 4310-55-P